POSTAL REGULATORY COMMISSION

[Docket No. MT2009-4; Order No. 720]

Postal Service Market Test

AGENCY: Postal Regulatory Commission.

ACTION: Notice.

SUMMARY: The Commission is noticing a recently-filed Postal Service motion for a temporary extension of the Collaborative Logistics experimental market test, pending Commission action on anticipated request for permanent status. This document grants a one-month extension, appoints a public representative, and invites public comments.

DATES: Comment deadline: May 16, 2011.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, 202-789-6820 or stephen.sharfman@prc.gov.

SUPPLEMENTARY INFORMATION: On April 26, 2011, the United States Postal Service moved to temporarily extend its Collaborative Logistics market test under 39 U.S.C. 3641(d).¹ The Commission originally allowed a 2-year market test on May 7, 2009.² The impending expiration of the 2-year interval has prompted the Postal Service to request that the Commission grant an extension of its experimental product. A temporary extension is being sought until such time as the Commission rules on a Postal Service request to make the Collaborative Logistics offering a permanent one. Motion at 2. The Postal Service hopes to file such a request by September 2011.

¹ Motion of the United States Postal Service for Temporary Extension of Collaborative Logistics Market Test, April 26, 2011 (Motion).

² Order No. 211, Order Concerning Collaborative Logistics Market Test, May 7, 2009.

The Postal Service recognizes that 39 U.S.C. 3641(d)(1) provides that “a market test shall not exceed 24 months.” Id. However, it suggests that the statute also “clearly envisions cases where market tests could be extended…under section 3641(d)(2).” Id. While the Postal Service recognizes that section 3641(d)(2) requires requests for extension of market tests to be submitted 60 days before the completion of the maximum 2-year test period, and its requested extension does not satisfy that provision precisely, it seeks a waiver to enable the Postal Service to complete the smooth transitioning of the management of this product to a new functional group. Id. at 1. The Postal Service contends an extension “would not prejudice any party.” Id. at 2.

The Commission will grant a 1-month extension of this market test, through June 6, 2011, to develop a record on which to evaluate the Motion.

The Postal Service is requested to submit additional information to explain more fully why it does not plan to file for permanent authority for 4 more months, and to provide a specific description of the justification for coordinating the test during that period. This information should be filed by May 5, 2011.

Interested persons may submit comments on the Postal Service's Motion for extension. These comments are due no later than May 16, 2011.

The Commission appoints Richard A. Oliver to serve as successor to the prior Public Representative in this docket.

It is ordered:

1. The Commission grants an extension until June 6, 2011, to the expiration date of the market test of Collaborative Logistics.

2. Pursuant to 39 U.S.C. 505, Richard A. Oliver is appointed to serve as officer of the Commission (Public Representative) to represent the interests of the general public in this proceeding.

3. The Postal Service shall supplement its Motion no later than May 5, 2011, as described in the body of this order.

4. Comments by interested persons are due no later than May 16, 2011.

5. The Secretary shall arrange for publication of this order in the Federal Register.

By the Commission.
Shoshana M. Grove,
Secretary.

[FR Doc. 2011-10815 Filed 5-3-11; 8:45 am]

BILLING CODE 7710-FW-P